ENVIRONMENTAL PROTECTION AGENCY

40 CFR Part 52

[R07-OAR-2004-MO-0002; FRL-7805-2]

Approval and Promulgation of Implementation Plans; State of Missouri

AGENCY: Environmental Protection Agency (EPA).

ACTION: Proposed rule.

SUMMARY: EPA proposes to approve a revision to the Missouri State Implementation Plan (SIP) which pertains to a state rule and maintenance plan applicable to the Doe Run Resource Recycling Lead Facility at Buick, Missouri. This revision revises certain furnace production limits at the facility, which are contained in the state rule and maintenance plan.

Approval of this revision will ensure consistency between the state and federally-approved rule and maintenance plan, and ensure Federal enforceability of the revised state rule and maintenance plan.

DATES: Comments on this proposed action must be received in writing by September 23, 2004.

ADDRESSES: Comments may be mailed to Judith Robinson, Environmental Protection Agency, Air Planning and Development Branch, 901 North 5th Street, Kansas City, Kansas 66101. Comments may also be submitted electronically or through hand delivery/courier; please follow the detailed instructions in the ADDRESSES section of the direct final rule which is located in the rules section of this Federal Register.

FOR FURTHER INFORMATION CONTACT: Judith Robinson at (913) 551-7825, or by e-mail at robinson.judith@epa.gov.

SUPPLEMENTARY INFORMATION: In the final rules section of the Federal Register, EPA is approving the state's SIP revision as a direct final rule without prior proposal because the Agency views this as a noncontroversial revision amendment and anticipates no relevant adverse comments to this action. A detailed rationale for the approval is set forth in the direct final rule. If no relevant adverse comments are received in response to this action, no further activity is contemplated in relation to this action. If EPA receives relevant adverse comments, the direct final rule will be withdrawn and all public comments received will be addressed in a subsequent final rule based on this proposed action. EPA will not institute a second comment period on this action. Any parties interested in commenting on this action should do so at this time. Please note that if EPA receives adverse comment on part of this rule and if that part can be severed from the remainder of the rule, EPA may adopt as final those parts of the rule that are not the subject of an adverse comment. For additional information, see the direct final rule which is located in the rules section of this Federal Register.

Dated: August 9, 2004.
James B. Gulliford,
Regional Administrator, Region 7.

[FR Doc. 04-19338 Filed 8-23-04; 8:45 am]

BILLING CODE 6560-50-P